DEPARTMENT OF THE INTERIOR

National Park Service

Cedar Creek and Belle Grove National Historical Park Advisory Commission; Notice of Public Meetings

AGENCY: Cedar Creek and Belle Grove National Historical Park Advisory Commission, National Park Service, Department of the Interior.

ACTION: Notice of Meetings

SUMMARY: Notice is hereby given in accordance with the Federal Advisory Committee Act that meetings of the Cedar Creek and Belle Grove National Historical Park Advisory Commission will be held to discuss the implementation of the Park's general management plan.

Date: December 15, 2011.

Location: Warren County Government Center, 220 North Commerce Avenue, Front Royal, VA.

Date: March 15, 2012.

Location: Strasburg Town Hall Council Chambers, 174 East King Street, Strasburg, VA.

Date: June 21, 2012.

Location: Middletown Town Council Chambers, 7875 Church Street, Middletown, VA. All meetings will convene at 8:30 a.m. and are open to the public.

FOR FURTHER INFORMATION CONTACT: Diann Jacox, Superintendent, Cedar Creek and Belle Grove National Historical Park, (540) 868-9176.

SUPPLEMENTARY INFORMATION: Topics to be discussed at the meetings include: visitor services and interpretation, land protection planning, historic preservation, and natural resource protection.

The Park Advisory Commission was designated by Congress to advise on the preparation and implementation of the park's general management plan. Individuals who are interested in the Park, the implementation of the plan, or the business of the Advisory Commission are encouraged to attend the meetings.

Dated: September 19, 2011.
Diann Jacox,
Superintendent, Cedar Creek and Belle Grove National Historical Park.

[FR Doc. 2011-24915 Filed 9-27-11; 8:45 am]

BILLING CODE P